DEPARTMENT OF ENERGY

10 CFR Part 460

[EERE-2009-BT-BC-0021]

RIN 1904-AC11

Energy Conservation Program: Energy Conservation Standards for Manufactured Housing

AGENCY: Office of Energy Efficiency and Renewable Energy, Department of Energy.

ACTION: Notification and reopening of public comment.

SUMMARY: The U.S. Department of Energy (DOE) has issued the Draft Environmental Impact Statement for Proposed Energy Conservation Standards for Manufactured Housing (DOE/EIS-0550). DOE prepared this Draft EIS in support of a rulemaking announced in the supplemental notice of proposed rulemaking (SNOPR) proposing amended energy conservation standards for manufactured housing on August 26, 2021 (August 2021 MH SNOPR). DOE invites interested parties to comment on how analysis presented in the Draft EIS should inform the final energy conservation standards for manufactured housing.

DATES: DOE will accept comments, data, and information regarding how the Draft EIS should inform DOE's final energy conservation standards for manufactured housing received no later than February 28, 2022. See section III, “Public Participation,” for details.

ADDRESSES: Interested persons are encouraged to submit comments using the Federal eRulemaking Portal at www.regulations.gov. Follow the instructions for submitting comments. Alternatively, interested persons may submit comments by email to: Manufactured_Housing@ee.doe.gov. Any comments submitted must provide docket number EERE-2009-BT-BC-0021 and/or regulatory information number (RIN) number 1904-AC11. Submit electronic comments in WordPerfect, Microsoft Word, PDF, or ASCII file format, and avoid the use of special characters or any form of encryption.

Comments submitted in response to this notice are separate from comments provided as part of the public review of the Draft EIS. See the EIS website (https://ecs-mh.evs.anl.gov/) for information on that public comment process.

Although DOE has routinely accepted public comment submissions through a variety of mechanisms, including postal mail and hand delivery/courier, the Department has found it necessary to make temporary modifications to the comment submission process in light of the ongoing Covid-19 pandemic. DOE is currently suspending receipt of public comments via postal mail and hand delivery/courier for this rulemaking. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

No telefacsimilies (faxes) will be accepted. For detailed instructions on submitting comments and additional information on the rulemaking process, see section III of this document.

Docket: The docket for this activity, which includes Federal Register notices, comments, and other supporting documents/materials, is available for review at www.regulations.gov. All documents in the docket are listed in the www.regulations.gov index. However, not all documents listed in the index may be publicly available, such as information that is exempt from public disclosure.

The docket web page can be found at www.regulations.gov/docket?D=EERE-2009-BT-BC-0021. The docket web page contains instructions on how to access all documents, including public comments, in the docket. See section III for information on how to submit comments through www.regulations.gov.

FOR FURTHER INFORMATION CONTACT: Mr. John Cymbalsky, U.S. Department of Energy, Office of Energy Efficiency and Renewable Energy, Building Technologies Program (EE-2J), 1000 Independence Avenue SW, Washington, DC 20585; 202-287-1692; john.cymbalsky@ee.doe.gov.

Mr. Matthew Ring, U.S. Department of Energy, Office of the General Counsel (GC-33), 1000 Independence Avenue SW, Washington, DC 20585; 202-586-2555; matthew.ring@hq.doe.gov.

SUPPLEMENTARY INFORMATION:

Table of Contents

I. Background

II. Request for Comment on the Rulemaking Proceeding

III. Public Participation

IV. Approval of the Office of the Secretary

I. Background

DOE has proposed amended energy conservation standards for manufactured housing and is maintaining both a rulemaking proceeding and an associated NEPA proceeding. In the rulemaking proceeding, DOE published a supplemental notice of proposed rulemaking (SNOPR) proposing amended energy conservation standards for manufactured housing on August 26, 2021 (August 2021 MH SNOPR). 86 FR 47744. In the August 2021 MH SNOPR, DOE's primary proposal was the “tiered” approach, based on the 2021 IECC, wherein a subset of the energy conservation standards would be less stringent for certain manufactured homes in light of the cost-effectiveness considerations required by statute. Under the tiered proposal, two sets of standards would be established in proposed 10 CFR part 460, subpart B (i.e., Tier 1 and Tier 2).

On October 26, 2021, DOE published a NODA regarding updated inputs and results of corresponding analyses and invited interested parties to comment on these analyses. 86 FR 59042 (October 2021 NODA). In addition, DOE reopened the public comment period on the SNOPR through November 26, 2021. DOE explained that it would consider the updated inputs and corresponding analyses, as well as comments on the inputs and analyses, as part of the rulemaking. In addition, DOE stated it may further revise the analysis presented in this rulemaking based on any new or updated information or data it obtains and encouraged stakeholders to provide any additional data or information that may inform the analysis.

In the NEPA proceeding, on July 7, 2021, DOE published a notice of intent (NOI) to prepare an environmental impact statement for energy conservation standards for manufactured housing, to invite public comments on the EIS scope, and to conduct public scoping meetings. 86 FR 35773 (July 7, 2021). DOE conducted online meetings July 21 and July 22, 2021, and invited oral comments on the scope of the EIS, with written comments invited through August 6, 2021. DOE has announced the availability of, and is seeking comment on, the Draft EIS. More information is available on the EIS website (https://ecs-mh.evs.anl.gov/).

II. Request for Comment on the Rulemaking Proceeding

DOE is re-opening comment on the rulemaking proceeding to consider how the Draft EIS should inform the final energy conservation standards for manufactured housing The Draft EIS analyzes price-based alternatives based around a $63,000 threshold for manufacturer retail list price and different wall insulation requirements. It also analyzes alternatives based on size of the manufactured housing (single sections and multiple sections with differences in wall insultation requirements), untiered alternatives with only differences in wall insultation requirements, and a no action alternative (i.e., no DOE standard). Stakeholders are encouraged to provide comment on the alternatives, assumptions, and analyses presented in the Draft EIS through the EIS process as described on the EIS website (https://ecs-mh.evs.anl.gov/).

Through this document, DOE invites comments in the docket for this rulemaking specifically on how the analyses and results presented in the Draft EIS should inform DOE's final rule for energy conservation standards for manufactured housing.

III. Public Participation

DOE is interested in receiving comments on how aspects of the data and analysis presented in the Draft EIS and supporting documentation should inform DOE's final energy conservation standards for manufactured housing.

Submission of Comments

DOE will accept comments, data, and information regarding this document, but no later than the date provided in the DATES section at the beginning of this document. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. No telefacsimiles (“faxes”) will be accepted.

Comments, data, and other information submitted to DOE electronically should be provided in PDF (preferred), Microsoft Word or Excel, or text (ASCII) file format. Provide documents that are not secured, that are written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: One copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

IV. Approval of the Office of the Secretary

The Secretary of Energy has approved publication of this notice and re-opening of comment period.

Signing Authority

This document of the Department of Energy was signed on January 10, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 11, 2022.
Treena V. Garrett,
Federal Register Liaison Officer, U.S. Department of Energy.

[FR Doc. 2022-00679 Filed 1-13-22; 8:45 am]

BILLING CODE 6450-01-P